DEPARTMENT OF LABOR

Employment and Training Administration

[TA-W-40,324]

Birmingham Steel, Joliet, IL; Notice of Termination of Investigation

Pursuant to section 221 of the Trade Act of 1974, an investigation was initiated on November 5, 2001 in response to a worker petition which was filed by the United Steelworkers of America, Local 9777, on the same date on behalf of workers at Birmingham Steel, Joliet, Illinois.

Production at the plant ceased in February 2001. A negative determination applicable to the petitioning group of workers was issued on July 30, 2001 (TA-W-39,082). No new information is evident which would result in a reversal of the Department's previous determination. Consequently, further investigation in this case would serve no purpose, and the investigation has been terminated.

Signed in Washington, DC this 7th day of November, 2001.
Linda G. Poole,
Certifying Officer, Division of Trade Adjustment Assistance.

[FR Doc. 01-28980 Filed 11-19-01; 8:45 am]

BILLING CODE 4510-30-M